DEPARTMENT OF THE INTERIOR

Fish and Wildlife Service

Draft Environmental Assessment/Habitat Conservation Plan; Issuance of Section 10(a)(1)(B) Permit for Incidental Take of Nine Listed Species in Cochise County, AZ and Hidalgo County, NM (Malpai Borderlands)

AGENCY: U.S. Fish and Wildlife Service, Interior.

ACTION: Notice of availability; receipt of application.

SUMMARY: Malpai Borderlands Group (Applicant) has applied to the U.S. Fish and Wildlife Service (Service) for an incidental take permit (TE-155587-0) pursuant to Section 10(a)(1)(B) of the Endangered Species Act (Act) of 1973, as amended. The requested permit, which is for a period of 30 years, would authorize incidental take of the following listed endangered species: Yaqui chub (Gila purpurea), Yaqui topminnow (Poeciliopsis occidentalis sonoriensis), Huachuca water-umbel (Lilaeopsis schaffneriana recurva), Northern Aplomado falcon (Falco femoralis septentrionalis); listed threatened species: Yaqui catfish (Ictalurus pricei), beautiful shiner (Cyprinella formosa), Chiricahua leopard frog (Rana chiricahuensis), Mexican spotted owl (Strix occidentalis lucida), New Mexico ridge-nosed rattlesnake (Crotalus willardi obscurus); candidate species: western yellow-billed cuckoo (Coccyzus americanus); and unlisted species: Yaqui sucker (Catostomus bernardini), longfin dace—Yaqui form (Agosia chrysogaster), Mexican stoneroller (Campostoma ornatum), lowland leopard frog (Rana yavapaiensis), northern Mexican gartersnake (Thamnophis eques megalops), black-tailed prairie dog (Cynomys ludovicianus), western burrowing owl (Athene cunicularia hypugaea), white-sided jackrabbit (Lepus callotis), and western red bat (Lasiurus blosseveillii). The proposed incidental take would occur as a result of grassland improvement and ranch management activities on non-Federal lands within approximately 828,000 acres of the Malpai borderlands region of Cochise County, Arizona and Hidalgo County, New Mexico. We invite public comment.

DATES: To ensure consideration, written comments must be received on or before August 31, 2007.

ADDRESSES: Persons wishing to review the application, draft Malpai Borderlands Habitat Conservation Plan (MBHCP), or other related documents may obtain a copy by written request to the Field Supervisor, U.S. Fish and Wildlife Service, Arizona Ecological Services Office, 2321 West Royal Palm Road, Suite 103, Phoenix, Arizona 85021-4951 (602/242-0210). Electronic copies of these documents will also be available for review on the Arizona Ecological Services Office Web site, http://www.fws.gov/southwest/es/arizona/. The application and documents related to the application will be available for public inspection, by appointment only, during normal business hours (8 a.m. to 4:30 p.m.) at the Service's Phoenix office. Comments concerning the application, draft HCP, or other related documents should be submitted in writing to the Field Supervisor, U.S. Fish and Wildlife Service, Arizona Ecological Services Office, 2321 West Royal Palm Road, Suite 103, Phoenix, Arizona 85021-4951. Please refer to permit number TE-XXXXXX-0 when submitting comments. All comments received, including names and addresses, will become a part of the official administrative record.

Public Availability of Comments

Before including your address, phone number, e-mail address, or other personal identifying information in your comment, you should be aware that your entire comment—including your personal identifying information—may be made publicly available at any time. While you can ask us in your comment to withhold your personal identifying information from public review, we cannot guarantee that we will be able to do so.

FOR FURTHER INFORMATION CONTACT: Marty Tuegel at the U.S. Fish and Wildlife Service Tucson office, 201 N. Bonita Avenue, Suite 141, Tucson, Arizona 85745 (520/670-6150) ext. 232, or by e-mail at Marty_Tuegel@fws.gov.

SUPPLEMENTARY INFORMATION: The Applicant has applied to the Service for a Section 10(a)(1)(B) incidental take permit for a period of 30 years in order to gain authorization for incidental take of 19 listed, candidate, and unlisted species. The proposed incidental take could occur as a result of grassland improvement and ranch management activities on non-Federal lands within approximately 828,000 acres of the Malpai borderlands region of Cochise County, Arizona and Hidalgo County, New Mexico.

Background

The Malpai Borderlands Group is proposing grassland improvement activities and general ranch management activities on non-Federal lands within the Malpai Borderlands area of Cochise County, Arizona and Hidalgo County, New Mexico. This area encompasses approximately 828,000 acres of primarily open rangeland. The covered area would include all the private and state trust lands within the area defined by the U.S./Mexico border on the south; on the west from milepost 10 on Geronimo Trail following current ranch boundaries north to Hwy 80, then north-east along Hwy 80 to the point where the section line between Township 21 South and Township 22 South crosses the highway, then north-west along current ranch boundaries to the National Forest boundary, then north-east along the National Forest boundary to the section line between Township 19 South and Township 20 South, then east to Hwy 80, then north along Hwy 80 to its junction with Hwy 9; along Hwy 9 on the north side; and on the east side along the Continental Divide (to where it enters Diamond A Ranch) and then along the east boundary of the Diamond A Ranch to its junction with the U.S./Mexico border. The grassland improvement activities include returning fire onto the landscape as an ecological factor that maintains the grassland ecosystem, erosion control structures to reduce soil loss and downstream sedimentation, and mechanical brush control to reduce shrub invasion of upland habitats. All three of these general activity types can have short-term impacts on species and their habitats, but through these activities, a long-term benefit is anticipated for the watersheds in the covered area and for the covered species. In addition, MBHCP includes provisions for individual ranchers to elect to enroll under the conservation plan for coverage of routine ranch management activities, including construction of linear facilities (fences, pipelines, and roads), livestock management, and use and maintenance of livestock ponds/tanks. These activities are included because in some cases incidental take of some covered species may occur. However, improved ranch management also can improve the watershed and habitats of covered species. In addition to these two broad categories of covered activities, Malpai Borderlands Group proposes actions to minimize the impacts of the activities and assist in recovery of the covered species. These actions are also proposed to be covered by the associated section 10(a)(1)(B) permit.

To meet the requirements of a section 10(a)(1)(B) permit, Malpai Borderlands Group has developed and will implement the MBHCP, which provides measures to minimize and mitigate for incidental take of the 19 proposed covered species to the maximum extent practicable, and which ensures that the incidental take will not appreciably reduce the likelihood of the survival and recovery of these species in the wild.

Section 9 of the Act and its implementing regulations prohibit the “taking” of threatened and endangered species. However, the Service, under limited circumstances, may issue permits to take listed wildlife species incidental to, and not the purpose of, otherwise lawful activities.

We provide this notice under section 10(c) of the Act (16 U.S.C. 1531 et seq.) and its implementing regulations (50 CFR 17.22), and the National Environmental Policy Act (42 U.S.C. 4371 et seq.) and its implementing regulations (40 CFR 1506.6).

C. Todd Jones,
Acting Regional Director, Region 2, Albuquerque, New Mexico.

[FR Doc. E7-12720 Filed 6-29-07; 8:45 am]

BILLING CODE 4310-55-P